DEPARTMENT OF COMMERCE

Foreign-Trade Zones Board

[B-60-2015]

Foreign-Trade Zone (FTZ) 84—Houston, Texas; Notification of Proposed Production Activity; Mitsubishi Caterpillar Forklift America Inc. (Forklift Trucks); Houston, Texas

Mitsubishi Caterpillar Forklift America Inc. (MCFA), an operator of FTZ 84, submitted a notification of proposed production activity to the FTZ Board for its facility in Houston, Texas. The notification conforming to the requirements of the regulations of the FTZ Board (15 CFR 400.22) was received on August 13, 2015.

MCFA already has authority to produce forklift trucks (Class I through Class V) powered by gasoline, propane or electric motors within Site 27 of FTZ 84. The current request would add certain foreign-status components to the scope of authority. Pursuant to 15 CFR 400.14(b), additional FTZ authority would be limited to the specific foreign-status materials and components and specific finished products described in the submitted notification (as described below) and subsequently authorized by the FTZ Board.

Production under FTZ procedures could exempt MCFA from customs duty payments on the foreign status components used in export production. On its domestic sales, MCFA would be able to choose the duty rates during customs entry procedures that apply to forklift trucks (free) for the foreign status materials and components noted below and in the existing scope of authority. Customs duties also could possibly be deferred or reduced on foreign status production equipment.

The components sourced from abroad include: Acrylonitrile-butadiene rubber sheets; alloy/non-alloy steel angles/shapes/sections/pipes/tubes; steel liquid/compressed petroleum gas tanks and cylinders; steel wires; and, liquid crystal display video monitors (duty rate ranges from free to 5.0%).

Public comment is invited from interested parties. Submissions shall be addressed to the FTZ Board's Executive Secretary at the address below. The closing period for their receipt is October 26, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: September 2, 2015.
Andrew McGilvray,
Executive Secretary.

[FR Doc. 2015-23082 Filed 9-11-15; 8:45 am]

BILLING CODE 3510-DS-P